DEPARTMENT OF ENERGY

Federal Energy Regulatory Commission

[Project No. 12693-002]

Sutton Hydroelectric Company LLC; Notice of Preliminary Permit Application Accepted for Filing and Soliciting Comments, Motions To Intervene, and Competing Applications

October 20, 2009.

On October 1, 2009, the Sutton Hydroelectric Company LLC filed an application, pursuant to section 4(f) of the Federal Power Act, proposing to study the feasibility of the Sutton Project, to be located at the U.S. Army Corps of Engineers Sutton Dam, on the Elk River, in Sutton, Braxton County, West Virginia.

The proposed project would utilize the existing U.S. Army Corps of Engineers' Sutton Dam and would consist of: (1) A proposed powerhouse containing 3 generating units with a total generating capacity of 9.2 MW; (2) a 10-foot-diameter penstock; (3) a proposed 1,600-foot-long, 138-kV transmission line; (4) a tailrace; and (5) appurtenant facilities. The project would have an estimated average annual generation of 38.1 gigawatts-hours.

Applicant Contact: Mr. Jeffrey M. Auser, Brookfield Renewable Power, 200 Donald Lynch Boulevard, Suite 300, Marlborough, MA 01752, phone (508) 251-7716.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp.

Enter the docket number (P-12693) in the docket number field to access the document. For assistance, call toll-free 1-866-208-3372.

Kimberly D. Bose,
Secretary.

[FR Doc. E9-25869 Filed 10-27-09; 8:45 am]

BILLING CODE 6717-01-P